DEPARTMENT OF DEFENSE

Office of the Secretary

[Transmittal No. 25-84]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-84 and Policy Justification.

Dated: February 4, 2026.
Stephanie J. Bost,
Alternate OSD Federal Register Liaison Officer, Department of Defense.

BILLING CODE 6001-FR?-P

BILLING CODE 6001-FR-C

Transmittal No. 25-84

Notice of Proposed Issuance of Letter of Offer Pursuant to Section 36(b)(1) of the Arms Export Control Act, as amended

(i) Prospective Purchaser: Government of Bahrain

(ii) Total Estimated Value:

Major Defense Equipment * | $ 0
Other | $ 445 million
TOTAL | $ 445 million

Funding Source: National Funds

(iii) Description and Quantity or Quantities of Articles or Services under Consideration for Purchase: Foreign Military Sales case BA-D-QDH was below congressional notification threshold at $47 million ($0 in major defense equipment) for F-16 aircraft sustainment. The Government of Bahrain has requested that the case be amended to include additional support which will cause the case to exceed the notification threshold, and thus notification of the entire program is required. The notification requirements are combined as follows:

Major Defense Equipment (MDE):

None

Non-Major Defense Equipment:

Major and minor modifications; Computer Program Identification Numbers (CPINs); aircraft maintenance support equipment; launcher spare parts and support equipment; spare parts, consumables and accessories, and repair and return support; aircraft components; missile containers; radar warning receiver component parts; guidance and control section spares; weapons system support; ground handling equipment; instruments and lab equipment; classified and unclassified software delivery and support; classified and unclassified publications and technical documentation; studies and surveys; transportation support; United States (U.S.) Government and contractor engineering, technical, and logistics support services; and other related elements of logistics and program support.

(iv) Military Department: Air Force (BA-D-QDH)

(v) Prior Related Cases, if any: BA-D-SAB

(vi) Sales Commission, Fee, etc., Paid, Offered, or Agreed to be Paid: None known at this time

(vii) Sensitivity of Technology Contained in the Defense Article or Defense Services Proposed to be Sold: None

(viii) Date Report Delivered to Congress: December 1, 2025

* as defined in Section 47(6) of the Arms Export Control Act.

POLICY JUSTIFICATION

Bahrain—F-16 Sustainment

The Government of Bahrain has requested to buy aircraft components; missile containers; radar receiver component parts; guidance and control section spares; weapons system support; ground handling equipment; and instruments and lab equipment that will be added to a previously implemented case whose value was under the congressional notification threshold. The original Foreign Military Sales case, valued at $47 million ($0 in major defense equipment), included major and minor modifications; Computer Program Identification Numbers (CPINs); aircraft maintenance support equipment; launcher spare parts and support equipment; spare parts, consumables and accessories, and repair and return support; classified and unclassified software delivery and support; classified and unclassified publications and technical documentation; studies and surveys; transportation support; U.S. Government and contractor engineering, technical, and logistics support services; and other related elements of logistics and program support. The estimated total cost is $445 million.

This proposed sale will support the foreign policy and national security of the U.S. by helping to improve the security of a major non-NATO ally that is an important force for political stability and economic progress in the Middle East.

The proposed sale will improve Bahrain's capability to meet current and future threats by providing a credible force that can deter adversaries and provide the capability to participate in regional operations with the U.S. and other U.S. partner nations. Bahrain will have no difficulty absorbing this equipment into its armed forces.

The proposed sale of this equipment and support will not alter the basic military balance in the region.

The principal contractors will be General Electric Aerospace, located in Evendale, OH; and Lockheed Martin Aeronautics, located in Fort Worth, TX. At this time, the U.S. Government is not aware of any offset agreement proposed in connection with this potential sale. Any offset agreement will be defined in negotiations between the purchaser and the contractor.

Implementation of this proposed sale will not require the assignment of additional U.S. Government and U.S. contractor representatives to Bahrain.

There will be no adverse impact on U.S. defense readiness as a result of this proposed sale.

[FR Doc. 2026-02400 Filed 2-5-26; 8:45 am]

BILLING CODE 6001-FR-P